DELAWARE RIVER BASIN COMMISSION

Notice of Public Hearing and Business Meeting

June 9-10, 2015.

Notice is hereby given that the Delaware River Basin Commission will hold a public hearing on Tuesday, June 9, 2015. A business meeting will be held the following day on Wednesday, June 10, 2015. The hearing and business meeting are open to the public and will be held at the Washington Crossing Historic Park Visitor Center, 1112 River Road, Washington Crossing, Pennsylvania.

Public Hearing. The public hearing on June 9, 2015 will begin at 1:30 p.m. Hearing items will include: Draft dockets for the withdrawals, discharges and other water-related projects subject to the Commission's review; a resolution apportioning among the signatory parties the amounts required for support of the current expense and capital budgets for the fiscal year ending June 30, 2016; a resolution approving the annual current expense and capital budgets for the fiscal year ending June 30, 2016; and a proposed rule, published elsewhere in this issue of the Federal Register, amending DRBC's Administrative Manual Part III—Rules of Practice and Procedure to provide for the One Process/One Permit Program.

The list of projects scheduled for hearing, including project descriptions, will be posted on the Commission's Web site, www.drbc.net, in a long form of this notice at least ten days before the hearing date. Draft resolutions scheduled for hearing also will be posted at www.drbc.net ten or more days prior to the hearing. Additional information related to the proposed rule to provide for the One Process/One Permit Program can be found in separate notices of proposed rulemaking in the Federal Register, the register publications of each of the Commission's member states, and at www.drbc.net.

Written comments on draft dockets and resolutions scheduled for hearing on June 9 will be accepted through the close of the hearing that day. After the hearing on all scheduled matters has been completed, and as time allows, an opportunity for public dialogue will also be provided.

The public is advised to check the Commission's Web site periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on June 10, 2015 will begin at 1:30 p.m. and will include: Adoption of the Minutes of the Commission's March 11, 2015 business meeting, announcements of upcoming meetings and events, a report on hydrologic conditions, reports by the Executive Director and the Commission's General Counsel, and consideration of any items for which a hearing has been completed or is not required.

There will be no opportunity for additional public comment at the June 10 business meeting on items for which a hearing was completed on June 9 or a previous date. Commission consideration on June 10 of items for which the public hearing is closed may result in either approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date. Items heard during the March 10, 2015 Public Hearing on which the Commission has not yet acted include draft dockets D-2014-008-1 for the Columbia Gas Transmission Corporation, and D-2014-022-1 for the Trancontinental Pipeline Company, LLC.

Advance Sign-Up for Oral Comment. Individuals who wish to comment for the record at the public hearing on June 9 or to address the Commissioners informally during the public dialogue portion of the meeting that day as time allows, are asked to sign up in advance by contacting Ms. Paula Schmitt of the Commission staff, at paula.schmitt@drbc.state.nj.us or by phoning Ms. Schmitt at 609-883-9500 ext. 224.

Addresses for Written Comment. Written comment on items scheduled for hearing may be delivered by hand at the public hearing or in advance of the hearing, either: By hand, U.S. Mail or private carrier to: Commission Secretary, P.O. Box 7360, 25 State Police Drive, West Trenton, NJ 08628; by fax to Commission Secretary, DRBC at 609-883-9522; or by email (preferred) to paula.schmitt@drbc.state.nj.us. If submitted by email in advance of the hearing date, written comments on a docket should also be sent to Mr. William Muszynski, Manager, Water Resources Management at william.muszynski@drbc.state.nj.us.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Updates. Items scheduled for hearing are occasionally postponed to allow more time for the Commission to consider them. Other meeting items also are subject to change. Please check the Commission's Web site, www.drbc.net, closer to the meeting date for changes that may be made after the deadline for filing this notice.

Additional Information, Contacts. The list of projects scheduled for hearing, with descriptions, will be posted on the Commission's Web site, www.drbc.net, in a long form of this notice at least ten days before the hearing date. Draft dockets and resolutions for hearing items will be available as hyperlinks from the posted notice. Additional public records relating to hearing items may be examined at the Commission's offices by appointment by contacting Carol Adamovic, 609-883-9500, ext. 249. For other questions concerning hearing items, please contact Project Review Section assistant Victoria Lawson at 609-883-9500, ext. 216.

Dated: May 13, 2015.
Pamela M. Bush,
Commission Secretary and Assistant General Counsel.

[FR Doc. 2015-12077 Filed 5-18-15; 8:45 am]

BILLING CODE 6360-01-P